INTERNATIONAL TRADE COMMISSION

Agency Information Collection Activities; Proposed Collection; Comment Request

AGENCY: United States International Trade Commission.

ACTION: Notice of proposed information collection; comment request.

SUMMARY: Pursuant to the Paperwork Reduction Act of 1995 (44 U.S.C. Ch. 35), the Commission intends to seek approval from the Office of Management and Budget to survey complainants who obtained exclusion orders that are currently in effect from the U.S. International Trade Commission following proceedings under 19 U.S.C. 1337. The survey will seek feedback on the effectiveness of the exclusion orders in stopping certain imports. Comments from the public concerning the proposed information collection are requested in accordance with 5 CFR 1320.8(d).

DATES: To be assured of consideration, written comments must be received not later than sixty (60) days after publication of this notice. All submissions received must reference docket number MISC-025.

ADDRESSES: Signed comments should be submitted to Marilyn R. Abbott, Secretary to the Commission, U.S. International Trade Commission, 500 E Street, SW., Washington, DC 20436.

FOR FURTHER INFORMATION: Copies of the proposed survey that the Commission will submit to the Office of Management and Budget for approval are posted on the Commission's Internet server at http://www.usitc.gov/intellectual_property/or may be obtained from Vu Q. Bui, Office of Unfair Import Investigations, U.S. International Trade Commission, 500 E Street, SW., Washington, DC 20436, telephone, 202-205-2560.

SUPPLEMENTARY INFORMATION:

Request for Comments

Comments are solicited as to (1) whether the proposed information collection is necessary for the proper performance of the functions of the agency, including whether the information will have practical utility; (2) the accuracy of the agency's estimate of the burden of the proposed information collection; (3) the quality, utility, and clarity of the information to be collected; and (4) minimization of the burden of the proposed information collection on those who are to respond.

Summary of the Proposed Information Collection

In its FY 2010 Performance Plan (available on the agency's Internet server at http://www.usitc.gov/press_room/documents/budget_2010.pdf), the Commission set itself the goal of obtaining feedback on the effectiveness of its exclusion orders issued under 19 U.S.C. 1337. The proposed survey is directed to entities that have obtained an outstanding exclusion order, and asks each such entity that responds to the survey to: (i) Evaluate whether the exclusion order has prevented the importation of items covered by the order; (ii) if not, estimate what are the absolute value and effect in the United States market of such imports; and (iii) indicate what experience it has had in policing the exclusion order, particularly with respect to any investigatory efforts and any interactions with U.S. Customs and Border Protection.

Responses to the survey are voluntary. The Commission estimates that the survey will require less than one hour to complete.

By order of the Commission.
February 19, 2010.
Marilyn R. Abbott,
Secretary to the Commission.

[FR Doc. 2010-3749 Filed 2-23-10; 8:45 am]

BILLING CODE 7020-02-P